DEPARTMENT OF JUSTICE

Notice of Lodging of Consent Decree Pursuant to Sections 104 and 107 of CERCLA

Notice is hereby given that on March 1, 2001, the United States lodged a proposed Consent Decree with the United States District Court for the Southern District of Texas, in United States of America v. Advanced Resin Systems, Inc., No. H-99-4357, pursuant to sections 104 and 107 of the Comprehensive Environmental Response, Compensation and Liability Act of 1980, as amended, 42 U.S.C. 9604 and 9607. The proposed Consent Decree resolves civil claims of the United States against Advanced Resin Systems, Inc. (“Advanced Resin”) in connection with the Archem Site, located in Houston, Texas. Advanced Resin will pay a total of $100,000.00 to the United States in reimbursement of response costs incurred at the Site by the United States Environmental Protection Agency.

The Department of Justice will receive for a period of thirty (30) days from the date of this publication comments relating to the proposed Consent Decree. Comments should be addressed to the Assistant Attorney General, Environment and Natural Resources Division, United States Department of Justice, P.O. Box 7611, Ben Franklin Station, Washington, D.C. 20044-7611, and should refer to United States of America v. Advanced Resin Systems, Inc., DJ No. 90-11-2-1328/1.

The proposed Consent Decree may be examined at the Office of the United States Attorney for the Southern District of Texas, 515 Rusk, Ste. 3300, Houston, Texas 77002, and the Region VI Office of the United States Environmental Protection Agency, 1445 Ross Avenue, Dallas, Texas, 75202. A copy of the proposed Consent Decree may be obtained by mail from the Department of Justice Consent Decree Library, P.O. Box 7611, Washington, D.C. 20044-7611. In requesting a copy, please enclose a check for reproduction costs (at 25 cents per page) in the amount of $4.75, payable to the Consent Decree Library.

Catherine McCabe,
Deputy Chief, Environmental Enforcement Section, Environment and Natural Resources Division.

[FR Doc. 01-7673 Filed 3-28-01; 8:45 am]

BILLING CODE 4410-15-M